SMALL BUSINESS ADMINISTRATION

Military Reservist Economic Injury Disaster Loans Interest Rate for Second Quarter FY 2020

The Small Business Administration publishes an interest rate for Military Reservist Economic Injury Disaster Loans (13 CFR 123.512) on a quarterly basis. The interest rate will be 3.750 for loans approved on or after January 17, 2020.

James Rivera,
Associate Administrator for Disaster Assistance.

[FR Doc. 2020-00703 Filed 1-24-20; 8:45 am]

BILLING CODE 8025-01-P